DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by April 30, 2003.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to section 10(c) of the Endangered Species Act of 1973, as amended (16 U.S.C. 1531, et seq.). Written data, comments, or requests for copies of these complete applications should be submitted to the Director (address above).

PRT-064172

Applicant: Exotic Feline Breeding Compound, Inc., Rosamond CA.

The applicant request a permit to export one male captive-born jaguar (Panthera onca) to the Singapore Zoological Gardens, Singapore, for the purpose of enhancement of the survival of the species through captive propagation and conservations education.

PRT-068724

Applicant: Albert Schweizer, Reistertown, MD.

The applicant requests a permit to import the sport-hunted trophy of one male bontebok (Damaliscus pygargus dorcas) culled from a captive herd maintained under the management program of the Republic of South Africa, for the purpose of enhancement of the survival of the species.

PRT-068750

Applicant: Wayne M. Knapp, Syracuse, NY.

The applicant requests a permit to import the sport-hunted trophy of one male bontetok (Damaliscus pygargus dorcas) culled from a captive herd maintained under the management program of the Republic of South Africa, for the purpose of enhancement of the survival of the species.

PRT-068778

Applicant: Samuel G. Spicer, Dallas, TX.

The applicant request a permit to import the sport-hunted trophy of one male bontebok (Damaliscus pygargus dorcas) culled from a captive herd maintained under the management program of the Republic of South Africa, for the purpose of enhancement of the survival of the species.

PRT-068868

Applicant: Thomas U. Dudley, Upperville, VA.

The applicant requests a permit to import the sport-hunted trophy of one male bontebok (Damaliscus pygargus dorcas) culled from a captive herd maintained under the management program of the Republic of South Africa, for the purpose of enhancement of the survival of the species.

PRT-063832

Applicant: Racine Zoological Gardens, Racine, WI.

The applicant request a permit to re-export and return a captive born tiger (Panthera tigris) to the Parken Zoo, Eskilstuna, Sweden, for the purpose of enhancement of the species through conservation education. This animal is being returned to the facility from which it originated.

PRT-06892

Applicant: National Geographic Society, Washington, DC.

The applicant requests a permit to import biological samples from wild specimens of American crocodile (Crocoylus acutus), taken from the Tarcoles River, Costa Rica, for the purpose of enhancement of the survival of the species through scientific research.

PRT-057398

Applicant: The Zoological Society of San Diego, San Diego, CA.

The applicant requests a permit to import wild live specimens and biological samples of California condors (Gymnogyps californianus) for the purpose of enhancement of the survival of the species through reintroduction to Sierra San Pedro Martir, Baja California, Mexico. This notification covers activities conducted by the applicant over a five year period. Permittee must annually apply for renewal.

PRT-068198

Applicant: Zoological Society of San Diego, San Diego Wild Animal Park, Escondido, CA.

The applicant request a permit to export one male captive born greater Indian one-horned rhinoceros (Rhinoceros unicornis) to the Warsaw Zoo, Poland, for the purpose of enhancement of the survival of the species through captive propagation.

The U.S. Fish and Wildlife Service has information collection approval from OMB through March 31, 2004, OMB Control Number 1018-0093. Federal agencies may not conduct or sponsor and a person is not required to respond to a collection of information unless it displays a current valid OMB control number.

Dated: March 7, 2003.
Monica Farris,
Senior Permit Biologist, Branch of Permits, Division of Managment Authority.

[FR Doc. 03-7564 Filed 3-28-03; 8:45 am]

BILLING CODE 4310-55-M